DEPARTMENT OF DEFENSE

Office of the Secretary

[Transmittal No. 24-53]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-53 and Policy Justification.

Dated: August 8, 2025.
Stephanie J. Bost,
Alternate OSD Federal Register Liaison Officer, Department of Defense.

BILLING CODE 6001-FR-P

BILLING CODE 6001-FR-C

Transmittal No. 24-53

Notice of Proposed Issuance of Letter of Offer Pursuant to Section 36(b)(1) of the Arms Export Control Act, as amended

(i) Prospective Purchaser: Government of Ukraine

(ii) Total Estimated Value:

Major Defense Equipment * | $ 0
Other | $138 million
TOTAL | $138 million

Funding Source: Foreign Military Financing

(iii) Description and Quantity or Quantities of Articles or Services under Consideration for Purchase: The Government of Ukraine has requested to buy sustainment-related articles and services for the HAWK Phase III missile system, including:

Major Defense Equipment (MDE):

None

Non-MDE:

Engineering and integration for communications and interoperability; refurbishment and system overhaul of HAWK air defense fire units; missile recertification components; tool kits; test equipment; support equipment; technical documentation; spare parts; training; United States (U.S.) Government and contractor technical and field office support; and other related elements of logistics and program support.

(iv) Military Department: Army (UP-B-UCX)

(v) Prior Related Cases, if any: NX-B-VGA, NW-B-WTD (USAI Cases)

(vi) Sales Commission, Fee, etc., Paid, Offered, or Agreed to be Paid: None

(vii) Sensitivity of Technology Contained in the Defense Article or Defense Services Proposed to be Sold: None

(viii) Date Report Delivered to Congress: April 9, 2024

* as defined in Section 47(6) of the Arms Export Control Act.

POLICY JUSTIFICATION

Ukraine—HAWK Phase III Missile System Sustainment

The Government of Ukraine has requested to buy sustainment-related articles and services for the HAWK Phase III missile system, including engineering and integration for communications and interoperability; refurbishment and system overhaul of HAWK air defense fire units; missile recertification components; tool kits; test equipment; support equipment; technical documentation; spare parts; training; U.S. Government and contractor technical and field office support; and other related elements of logistics and program support. The estimated total cost is $138 million.

The Secretary of State has determined and provided detailed justification that an emergency exists that requires the immediate sale to the Government of Ukraine of the above defense articles and services in the national security interests of the U.S., thereby waiving the congressional review requirements under Section 36(b) of the Arms Export Control Act, as amended.

This proposed sale will support the foreign policy goals and national security objectives of the U.S. by improving the security of a partner country that is a force for political stability and economic progress in Europe.

Ukraine has an urgent need to increase its capabilities to defend against Russian missile strikes and the aerial capabilities of Russian forces. Maintaining and sustaining the HAWK missile system will enhance Ukraine's ability to defend its people and protect critical national infrastructure.

The proposed sale of this equipment and support will not alter the basic military balance in the region.

The principal contractors will be RTX Corporation, located in Andover, MA, and PROJECTXYZ, located in Huntsville, AL. Equipment will be supplied from a combination of U.S. Army stock, country donations, Commercial Off-the-Shelf (COTS), and new production. There are no known offset agreements proposed in connection with this potential sale.

Implementation of this proposed sale will require temporary duty travel of an estimated 5 U.S. Government and 15 contractor representatives to Europe to support HAWK system training and sustainment.

There will be no adverse impact on U.S. defense readiness as a result of this proposed sale.

[FR Doc. 2025-15287 Filed 8-11-25; 8:45 am]

BILLING CODE 6001-FR-P